ENVIRONMENTAL PROTECTION AGENCY

40 CFR Part 300

[EPA-HQ-SFUND-1983-0002; FRL 9908-64-Region 4]

National Oil and Hazardous Substances Pollution Contingency Plan; National Priorities List: Deletion of the Coleman-Evans Wood Preserving Superfund Site

AGENCY: Environmental Protection Agency.

ACTION: Direct final rule.

SUMMARY: The Environmental Protection Agency (EPA) Region 4 is publishing a direct final Notice of Deletion of the Coleman-Evans Wood Preserving Superfund Site (Site), located in Whitehouse, Florida, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the State of Florida, through the Florida Department of Environmental Protection (FDEP), because EPA has determined that all appropriate response actions under CERCLA, other than operation, maintenance, and five-year reviews, have been completed. However, this deletion does not preclude future actions under Superfund.

DATES: This direct final deletion is effective May 27, 2014 unless EPA receives adverse comments by April 28, 2014. If adverse comments are received, EPA will publish a timely withdrawal of the direct final deletion in the Federal Register informing the public that the deletion will not take effect.

ADDRESSES: Submit your comments, identified by Docket ID no. EPA-HQ-SFUND-1983-0002, by one of the following methods:

• http://www.regulations.gov. Follow on-line instructions for submitting comments.

• Email: kestle.rusty@epa.gov.

• Fax: 404-562-8896.

• Mail: Rusty Kestle, 61 Forsyth Street SW., Atlanta, GA 30303-8909.

• Hand Delivery: Rusty Kestle, 61 Forsyth Street SW., Atlanta GA 30303-8909. Such deliveries are only accepted during the Docket's normal hours of operation, and special arrangements should be made for deliveries of boxed information.

Instructions: Direct your comments to Docket ID no. EPA-HQ-SFUND-1983-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at:

61 Forsyth Street SW., Atlanta GA 30303-8909, Monday through Friday, 9 a.m. to 5 p.m., or

West Regional Jacksonville Public Library, 1425 Chaffee Rd S., Jacksonville, FL 32221, Mon-Thu: 10 a.m.-9 p.m., Fri & Sat: 10 a.m.-6 p.m. Sun: CLOSED.

FOR FURTHER INFORMATION CONTACT: Rusty Kestle, Remedial Project Manager, U.S. Environmental Protection Agency, Region 4, 61 Forsyth Street, SW., Atlanta GA 30303-8909, (404) 562-8819, email: kestle.rusty@epa.gov

SUPPLEMENTARY INFORMATION:

Table of Contents

I. Introduction

II. NPL Deletion Criteria

III. Deletion Procedures

IV. Basis for Site Deletion

V. Deletion Action

I. Introduction

EPA Region 4 is publishing this direct final Notice of Deletion of the Coleman-Evans Wood Preserving Superfund Site (Site), from the National Priorities List (NPL). The NPL constitutes Appendix B of 40 CFR part 300, which is the Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, sites deleted from the NPL remain eligible for Fund-financed remedial actions if future conditions warrant such actions.

Because EPA considers this action to be noncontroversial and routine, this action will be effective May 27, 2014 unless EPA receives adverse comments by April 28, 2014. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Coleman-Evans Wood Preserving Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the state of Florida prior to developing this direct final Notice of Deletion and the Notice of Intent to Delete co-published today in the “Proposed Rules” section of the Federal Register.

(2) EPA has provided the state 30 working days for review of this notice and the parallel Notice of Intent to Delete prior to their publication today, and the state, through the FDEP, has concurred on the deletion of the Site from the NPL.

(3) Concurrently with the publication of this direct final Notice of Deletion, a notice of the availability of the parallel Notice of Intent to Delete is being published in a major local newspaper, The Florida Times-Union. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The Coleman-Evans Wood Preserving Site (CERCLIS ID FLD991279894) is an 11-acre former wood preserving facility, located in the community of Whitehouse, Duval County, Florida, approximately eight miles west of downtown Jacksonville, Florida. Duval County lies within the drainage basin of the St. Johns River, in northeast Florida. The topography is coastal plain; however, rolling hills predominate throughout the county. The land use in the vicinity of the Site is mixed residential, light industrial and commercial. The Coleman-Evans Site is bordered on the north by the CSX Railroad, on the south by residential homes along General Avenue, on the east by heavy vegetation, and on the west by primarily commercial properties across Celery Avenue with residences to the southwest.

The Site is a former wood preserving facility that produced treated lumber from 1954 to the mid-1980s. Effluent wastewater from the treatment process was discharged to a drainage ditch which channeled the water south, eventually into McGirt's Creek. The Site utilized sludge pits and above ground storage tanks to store its wastes until site operations ceased in the late 1980's. Although wood-treating operations ceased in the late 1980's, sawing and kiln drying of untreated lumber continued at the Site until mid-1994. After that time, all commercial activities at the Site ceased. Due to poor waste management practices, soil and ground water in the vicinity of the Site became contaminated with pentachlorophenol (PCP) and dioxin.

The soil, sediments, surface water and ground water at the Site were contaminated with PCP and dioxin. The nature and extent of the contamination, both on and off the former facility property was defined through a series of investigations and treatability studies conducted between 1986 and 2006. Contaminant release on the former facility property occurred through poor waste management practices, and adjacent properties were impacted by wastewater discharge to a drainage ditch, which channeled the water south to McGirts Creek. The drainage ditch often overflowed spreading pentachlorophenol and dioxin contamination through the downstream residential properties. The surficial aquifer beneath the former facility property also was impacted by contamination, but is separated from the deeper drinking water aquifer by an aquitard.

Residential properties adjacent to and near the former facility property use private water supply wells completed in the upper portion of the deeper limestone aquifer for domestic supply. No site-related ground water contamination has been detected in this limestone aquifer or in these domestic supply wells. The human health risk assessment identified the site surface soil as a medium of concern for both current and future residents and commercial/industrial workers. Ground water also was a concern for future residents. The aggregate risks for the Site were an incremental lifetime cancer risk of greater than 1.0 × 10⁻⁶ and a hazard index of greater than 1.

In October, 1981, the Site was proposed for inclusion on the National Priorities List (NPL), based on a hazard ranking score of 59.14 and was proposed to the NPL in September of 1982 and added to the NPL in March, 1983 under 40CFR, Table 1 of Appendix B to part 300.

Redevelopment and Future Land Use

As part of the reuse planning for the former facility property, EPA provided a reuse planning grant to the City of Jacksonville which hired HDR/Landers Atkins Planners to research and develop alternatives for future use of the Site property. The Master Plan provides a guideline for the development of a park on the undeveloped 11 acre parcel. The scope of work for the Master Plan included three phases. These include: analysis and data gathering, plan alternatives and conceptual design, and the generation of the final Master Plan. The goal of the Master Plan was to provide a safe and functional place for the local residents to participate in recreational activities. Four concepts were considered in the development of the Master Plan. The final Master Plan includes the following features: auto circulation and parking, provision of domestic water and sewer utility, a community center and gymnasium, sports courts, passive recreation facilities, pedestrian circulation, and security.

The planned future use of the former facility property is considered compatible with the expected future use of the surrounding properties. This reflects continued growth in residential land use in west Jacksonville along with the supporting commercial development. Since much of the area around the former facility is zoned commercial/residential and is in close proximity to Chaffee Road and Interstate-10, the area impacted by OU2 may experience a changeover from predominantly residential to commercial land use in the future. Ground water use for domestic supply is being supplanted by municipal water and sewer systems in the community of Whitehouse. It is reasonable to expect that residential and commercial properties along General Avenue will be served by the municipal water system in the future. No significant changes in the patterns of surface water flow are anticipated in the foreseeable future.

Response Actions, Remedial Investigation and Feasibility Study (RI/FS), Selected Remedy Cleanup Goals

Removal Activities

In June, 1985, EPA issued a Removal Order to the Coleman-Evans Wood Preserving Company pursuant to Section 106 of the Comprehensive Environmental Resource and Conservation Liability Act (CERCLA). Coleman-Evans did not comply with the CERCLA Section 106 Removal Order, and EPA then conducted Emergency Response Actions at the Site in 1985 and 1993 to control the major sources of PCP contamination in the upper surficial aquifer and to protect nearby residents from exposure.

In April, 1988, a CERCLA Section 106 Order was issued to the Coleman-Evans Wood Preserving Company to implement the remedial design and remedial action (RD/RA).

OU1 Remedy Selection

EPA has chosen to use two Operable Units (OUs) for the Coleman-Evans Wood Preserving Company Superfund Site. OU1 addresses contaminated soil, sediments, surface water and ground water that was present on and adjacent to the former facility property and soil contamination present in areas within the surface water drainage pathway leading from the facility. OU2 addresses residual dioxin contamination in surface soil outside the areas addressed by OU1.

In April, 1986, the remedial investigation (RI), which characterized the extent of contamination at the Site and identified PCP as the primary chemical-of-concern (COC) at the Site, was completed. PCP was shown to be present in sediment, soil, surface water, and in the upper surficial aquifer.

In September, 1986, the original Record of Decision (ROD) for OU1 was signed. The 1986 ROD required excavation and incineration of PCP contaminated soil at levels greater than 10 milligrams per kilogram (mg/kg) and recovery of PCP contaminated ground water at levels greater than 1 microgram per liter (µg/L) with treatment via carbon adsorption.

In September, 1990, an Amended ROD (AROD) was signed. The AROD changed the soil remedy to the treatment and on-site disposal of PCP contaminated soils, sediments, and sludges at levels greater than 25 mg/kg via soil washing, bio-treatment, solidification/stabilization (S/S), on-site treatment and disposal of contaminated ground water collected during excavation, disposal of on-site structures, closure of sand filter units, and institutional controls.

In June, 1992, additional soil sampling determined that dioxin/furans are also chemicals of concern (COCs) at the Site. Additional investigation and treatability studies were conducted at the Coleman-Evans Site between 1992 and 1997.

In September, 1997, the EPA selected an Interim Remedial Action (IRA) for the Site in an AROD, which included the excavation of contaminated soil and sediment on and off the former facility property followed by on-site treatment using high-temperature thermal desorption, an innovative technology at the time. The IRA also provided for the collection, treatment, and discharge of contaminated ground water from the upper surficial aquifer at the site, collecting free-product for recycling and/or off-site disposal, and relocating residents, as necessary, to facilitate construction. The 1997 AROD for OU1 set final cleanup goals noted in Table 1 for contaminants in all media except the cleanup goal for dioxin in soil which was interim pending establishment of a federal and/or State standard.

The cleanup action for OU1 included issuance of four Explanation of Significant Differences (ESD) in June, 2001, August, 2003, February, 2004, and September, 2005 to address the addition of a pollution control device to the treatment system, two increases in the estimated volume of soil, sediment and debris requiring treatment, and a change in the technical approach to completion of the ground water remedy.

Soil treatment was completed in May, 2004 when cleanup goals for soils and sediment established for OU1 in the 1997 Amended ROD and noted in Table 1 were achieved for the Site. Ground water contamination was reduced to a small exceedance of ground water cleanup goals established in the 1997 Amended ROD and noted in Table 2 in a single well that is being monitored for natural attenuation. During the course of this action, over 210,000 net wet tons of soil were treated and placed on the facility property, and approximately 73,500,000 gallons of ground water and storm water were treated and discharged.

OU2 Remedy Selection

The ROD for OU2 was signed in September, 2006. The selected remedy in the 2006 ROD includes the following remedial components: excavation and on-site disposal of site-attributable dioxin contamination in exceedance of cleanup goals noted in Table 3 located in areas on and adjacent to the former facility property and adjacent to drainage pathways which may have been impacted by contaminated storm water runoff from the Site; restoration of excavation areas with clean topsoil and revegetation; placement of a nominal 2-foot cover over the excavated soils that were disposed on the former facility property during OU1 and OU2 remedial activities; and establishment of a restrictive covenant limiting on-site land use to commercial/industrial use (including use as a park). This action represents the final remedy selected for the Site, and, as such, is compatible with the intended future use of the Site. This action also is compatible with and complimentary to the action for OU1.

OU1 and OU2 Cleanup Goals

The soil cleanup levels are primarily risk-based and the ground water cleanup levels are based on applicable or relevant and appropriate requirements (ARARs) and/or are risk-based. The ground water cleanup level ARARs are health based and are the most stringent of federal or state primary drinking water standards.

OU1 Remedial Action

In 1997, EPA tasked the United States Army Corps of Engineers, Kansas City District, (USACE-NWK) to prepare the RD and to contract for the Remedial Action (RA) phase. The RD was completed in 1998. The RA contract was awarded by USACE-NWK to Fluor Daniel-GTI (FD-GTI) in 1999. Shortly after, FD-GTI was purchased by IT Corporation, which went into bankruptcy in 2001. IT Corporation was acquired by Shaw Environment and Infrastructure, Inc. (Shaw E&I) in 2002. This contract included a requirement that the thermal treatment portion be subcontracted to a third party under a fixed price subcontract. Roy F. Weston (Weston) was awarded the subcontract for thermal treatment.

FD-GTI mobilized to the site in May, 1999. FD-GTI performed all the site preparation work, mobilization of temporary facilities, installation of utilities, site access grants, equipment removal and disposal, and site clearing and grubbing. Weston mobilized their Thermal Desorption Unit (TDU) to the site in April, 2000. A Proof of Performance (POP) test showed that the unit was not able to meet the soil treatment standards. Weston had to replace this unit and design a new TDU. The new TDU was put into service in October, 2001. The new TDU passed a second POP test in October, 2001. Full scale operations continued through March, 2004.

Excavation grids were established across the site and in the drainage ditch to McGirt's Creek. The excavations were subdivided into 2,500 square foot areas. The soil was removed in 2-foot intervals. Five-point composite samples were collected from each floor area and sidewall samples were collected every 100-linear feet along the excavation perimeter to ensure that soil cleanup goals noted in Tables 1 and 3 were met. When the soils along the excavation perimeter did not meet the cleanup levels, the excavations were deepened by 2 feet and the side walls were extended by 2 feet. Oversized debris that was encountered during the excavation was sent for off-site disposal. Nearly all of the excavations zones grew beyond their original dimensions based on confirmatory soil sampling results. The original estimated volume of soil to be excavated in the 1997 AROD was 52,265 cubic yards. The final quantity was 170,000 cubic yards, which is an estimated 320% increase in soil volume that required treatment.

The ground water encountered during the excavation activities was managed through dewatering. All ground water encountered during excavation was collected and treated on-site, then discharged to the existing drainage ditch. All storm water collected during excavation activities, and decontamination water produced during the RA also was treated on-site and discharged as part of site operations.

Two inspections were conducted, a pre-final and final inspection, and both were conducted with representatives of the U.S. Army Corps of Engineers—Jacksonville District (USACE-SAJ), FDEP, and the U.S. Environmental Protection Agency (EPA) participating. These inspections fulfilled both the requirements for closeout of the construction contracts between USACE and the Remedial Action contractors, as well as the joint inspection requirement of the National Contingency Plan (40 CFR Section 300.515(g)).

The pre-final inspection was performed on March 2, 2004, prior to completion of thermal treatment of soil and during initial demobilization activities by the contractors at the Site. The completion requirements for the soil-phase of the Interim Remedial Action were modified from those in the Remedial Action contract by a February, 2004 Explanation of Significant Differences (ESD). This ESD recognized that certain contract items associated with site restoration would be re-sequenced to the ground water-phase of the action to coincide with final decision-making for the Site soils and due to cost limitations. The items included in the ESD were final debris disposal (pending a delisting determination) and final grading and topsoil placement (pending a decision on the final thickness of topsoil required).

During the pre-final inspection, a number of items were identified as necessary for the completion of soil-phase activities. These items were documented in a punch list.

The final inspection was performed on August 24, 2004, following substantial completion of the punch list items and Remedial Action contractor demobilization. The punch list items were reviewed and formed a basis for the final inspection. During the final inspection, some additional items were identified by FDEP and EPA. These items were substantially completed by USACE-SAJ by September 10, 2004. Ongoing activities included maintaining the vegetative cover and maintaining site security. The physical construction of the OU1—Phase 1 Remedial Action of the Coleman-Evans Wood Preserving Superfund Site was acceptably completed on September 24, 2004.

Based on the data collected during the ground water supplemental RD phase in 2004, an ESD was completed in 2005 that replaced the ongoing ground water pump and treatment selected in the 1997 AROD with a monitored natural attenuation (MNA) ground water remedy. Ground water monitored natural attenuation has been performed by EPA's Science and Ecological Support Division (SESD), and the monitoring results indicate that PCP cleanup levels in ground water have been achieved.

OU2 Remedial Action

The EPA tasked Black & Veatch Special Projects Corporation (Black & Veatch) to prepare the RD for OU2 in October, 2006 in accordance with 2006 ROD. The design was completed in May, 2007. Vertical delineation soil sampling performed as part of the RD identified that some of the proposed excavation areas would need to be excavated deeper. In early 2007, a meeting was held at the Site with EPA, FDEP and USACE-SAJ to field verify the limits of the excavation areas based on site features and to identify the four “hot spots” that were included in the 2006 ROD with locations to be determined in discussion with FDEP. All of the areas were identified and the RD was finalized.

The EPA awarded the RA phase to Black & Veatch in May, 2007. Black & Veatch subcontracted the construction activities to WRS Environment & Infrastructure, Inc. (WRS) in June, 2007. Construction activities began on July 5, 2007 with site surveying, installation of temporary facilities, a tree inventory, property access agreements, and installation of erosion and sediment controls. Upon receipt of the backfill sample analytical data, the excavation activities began. All of the excavation areas have been excavated and backfilled as specified in the RD.

Area 9 is located contiguous to the former excavation along the western side of the drainage ditch south of General Avenue. Confirmatory soil sampling collected from this area in April, 2007 demonstrated that the area was contaminated with dioxin above the OU1 cleanup level of 1.0 ppb. As a result, this area was subdivided into 3 sub-areas. All of the soils excavated from Area 9 were staged on-site in roll-off containers and sampled for waste characterization. Based on the waste characterization data, the roll-offs were transported off-site for incineration and disposal at Port Arthur, Texas.

During the OU2 construction activities, selected monitoring wells agreed upon by EPA and FDEP were abandoned properly in accordance with State of Florida requirements on August 13 and 14, 2007. The wells remaining on-site were required as part of the ground water MNA program or require more recent sample data in order to make final decision on the abandonment.

Repair to the head wall on the northern end of the 36-inch elliptical pipe, repairs to a damaged section of the pipe, and installation of the storm water conveyance structures were completed in August, 2007. Construction of the nominal 2-foot cover and final site grading and surveying also were complete in August, 2007. Sod was laid on the residential properties as part of site restoration. Hydro-seeding of the facility property was performed in late August, 2007.

EPA and Florida FDEP performed a joint pre-final inspection of the remedial action construction for the final remedy at the Coleman-Evans Wood Preserving Superfund Site on August 24, 2007. Participants in the inspection included: David Keefer (EPA), John Sykes (FDEP), Mike Schultz (USACE-SAJ), Clark Langston (USACE-SAJ), Daralene Pondo (BVSP), Kevin Brown (BVSP), David Behnke (BVSP), and Mark Talarico (WRS). The inspection was performed by reviewing the physical condition/status of each remedy component and the corresponding records beginning with the components of the remedy located off the former facility property. Punch list items were completed for each remedy component.

EPA and FDEP conducted a joint final inspection on September 14, 2007, and determined that the contractors have constructed the OU2 remedy in accordance with the RD plans and specifications which were developed in accordance with the final RODs for the Site.

Operation and Maintenance

All substantial elements of the physical construction of the remedy have been completed, and the remedy is currently protective of human health and the environment. Remaining activities include ensuring establishment of the vegetative cover on the facility property and issuance of the restrictive covenant/deed restriction. Institutional controls are a required component of this remedy since contaminated material will remain on-site. The restrictive covenant was established to limit the use of the former facility property to commercial/industrial (including use as a park) as an institutional control. The restrictive covenant ensures that the land use remains non-residential and that appropriate precautions are taken for any potential future intrusive subsurface work activities (e.g., installation of utility lines) in order to prevent disturbance of subsurface waste soil and ensure the short- and long-term effectiveness of the remedy. The institutional control also ensures that appropriate site access and precautions are in place for the duration of the ground water monitored natural attenuation.

The Sitewide Interim Remedial Action Report was finalized in July 2008. A Sitewide RA Report was signed in May 2013 since all ground water cleanup goals specified in the 1997 AROD have been met, the remedy is operational and functional, and all inspections have been completed.

The Operation and Maintenance (O&M) Plan for the Site was prepared by EPA in 2009 and O&M activities have been taking place for the past four years. The City of Jacksonville is the current property owner and is therefore responsible for conducting O&M at the Site. As part of the current O&M plan, the vegetation on the cap must be maintained and the institutional controls enforced as part of the selected remedy.

Five-Year Reviews

Pursuant to CERCLA section 121(c), 42 U.S.C. 9601 et seq., and EPA's Five-Year Review Guidance (EPA, 2001), because this remedy will result in hazardous substances, pollutants, or contaminants remaining on-site above levels that allow for unlimited use and unrestricted exposure, a statutory review must be conducted every five years after initiation of remedial action at the Coleman-Evans Wood Preserving Company Superfund Site to ensure that the remedy is protective of human health and the environment. The remedies at the Site overall currently protect human health and the environment because all contaminated soil has been treated; contaminated ground water is limited to the surficial aquifer on the former facility property; samples from private wells demonstrate that ground water contamination has not impacted the intermediate aquifer; and the Site is located in a Florida Delineated Area which restricts the installation of ground water wells. The second Five-Year Review (E2, 2009) was signed on June 20, 2009, and determined that the OU1 selected remedy to be protective in the long-term on the former facility property contaminant concentrations if groundwater contamination continued to decrease to the cleanup standards, the restrictive covenant (which limits future land use on the former facility property to commercial and recreational use and limits disturbance of the soil cover) was finalized to prevent the potential creation of exposure pathways at the site, and an O&M plan was developed to ensure the vegetative cover over the treated soil on the former facility property is maintained. All of these actions have since been achieved (EPA, 2013). The second Five-Year Review also determined that the OU2 selected remedy is protective in both the short-term and long-term in the areas off of the former facility property since the residential areas were cleaned up to the 7 ppt Florida residential soil dioxin standard and the other areas within OU2 were cleaned up to the 30 ppt Florida industrial/commercial soil dioxin standard. The third Five-Year Review will be completed prior to June 20, 2014, which is five years since the last review was completed.

Community Involvement

Community involvement activities were undertaken throughout the thirty year history of the site in the form of public meetings, five-year review interviews and site update mail-outs. There are currently no major community concerns about the site. The five-year review community involvement process will continue to monitor any potential community concerns.

Determination That the Site Meets the Criteria for Deletion in the NCP

The implemented remedy achieves the degree of cleanup and protection specified in the RODs for the site for all pathways of exposure. The selected remedy at the Site is protective of human health and the environment in the short-term because all exposure pathways that could result in unacceptable risks are being controlled. Contamination remaining on-site is being contained to the capped portion. The remedy will be protective in the long-term because institutional controls are in place in the form of land and ground water use restrictions; the fence needs to be kept closed completely to prevent Site access by trespassers who could disturb the cap and vegetative cover. These institutional controls are in the form of a Declaration of Restrictive Covenant executed between FDEP and the current property owner of the former facility portion of the Site, the City of Jacksonville. This declaration was executed on the 29th of September, 2009, and restricts activities on the property and the future use of the property. This declaration also increases the protectiveness of the completed remedial action in the future. All selected remedial and removal actions, remedial action objectives, and associated cleanup goals are consistent with EPA policy and guidance; EPA has followed the procedures required by 40 CFR 300.425(e) and these actions, objectives and goals have all been achieved and, therefore, no further Superfund response is needed to protect human health and the environment.

V. Deletion Action

The EPA, with concurrence of the State of Florida through the FDEP, has determined that all appropriate response actions under CERCLA, other than operation, maintenance, monitoring and five-year reviews, have been completed. Therefore, EPA is deleting the Site from the NPL.

Because EPA considers this action to be noncontroversial and routine, EPA is taking it without prior publication. This action will be effective May 27, 2014 unless EPA receives adverse comments by April 28, 2014. If adverse comments are received within the 30-day public comment period, EPA will publish a timely withdrawal of this direct final notice of deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: December 13, 2013.
A. Stanley Meiburg,
Acting Regional Administrator, Region 4.

For the reasons set out in this document, 40 CFR part 300 is amended as follows:

PART 300—[NATIONAL OIL AND HAZARDOUS SUBSTANCES POLLUTION CONTINGENCY PLAN]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to part 300 is amended by removing the entry for “FL,” “Coleman-Evans Wood Preserving Co.”, “Whitehouse”.

[FR Doc. 2014-06700 Filed 3-26-14; 8:45 am]

BILLING CODE P